DEPARTMENT OF ENERGY

Federal Energy Regulatory Commission

Combined Notice of Filings #1

Take notice that the Commission received the following electric rate filings:

Docket Numbers: ER15-1293-002.

Applicants: Southwest Power Pool, Inc.

Description: Compliance filing: Complaince Revisions in Docket No. ER15-1293—Attachment AE to be effective 5/15/2015.

Filed Date: 9/11/15.

Accession Number: 20150911-5038.

Comments Due: 5 p.m. ET 10/2/15.

Docket Numbers: ER15-1405-001.

Applicants: The Empire District Electric Company.

Description: Compliance filing: Compliance Filing re Settlement to be effective 6/1/2015.

Filed Date: 9/11/15.

Accession Number: 20150911-5076.

Comments Due: 5 p.m. ET 10/2/15.

Docket Numbers: ER15-1918-001.

Applicants: Southwest Power Pool, Inc.

Description: Compliance filing: Compliance Filing in ER15-1918—Transmission Owner Selection Process Revisions to be effective 8/15/2015.

Filed Date: 9/11/15.

Accession Number: 20150911-5091.

Comments Due: 5 p.m. ET 10/2/15.

Docket Numbers: ER15-2219-001.

Applicants: EONY Generation Limited.

Description: Compliance filing: Amendment to 20 to be effective 7/17/2015.

Filed Date: 9/11/15.

Accession Number: 20150911-5101.

Comments Due: 5 p.m. ET 10/2/15.

Docket Numbers: ER15-2376-001.

Applicants: Energy Power Investment Company, LLC.

Description: Tariff Amendment: Supplement to MBR application to be effective 9/3/2015.

Filed Date: 9/11/15.

Accession Number: 20150911-5071.

Comments Due: 5 p.m. ET 10/2/15.

Docket Numbers: ER15-2641-000.

Applicants: ISO New England Inc., New England Power Pool Participants Committee, Eversource Energy Service Company (as agent).

Description: § 205(d) Rate Filing: CTS to be effective 12/31/9998.

Filed Date: 9/10/15.

Accession Number: 20150910-5150.

Comments Due: 5 p.m. ET 10/1/15.

Docket Numbers: ER15-2642-000.

Applicants: California Independent System Operator Corporation.

Description: § 205(d) Rate Filing: 2015-09-10_Planning Coordinator Agreement with CCSF and CEII Request to be effective 11/10/2015.

Filed Date: 9/10/15.

Accession Number: 20150910-5151.

Comments Due: 5 p.m. ET 10/1/15.

Docket Numbers: ER15-2643-000.

Applicants: Northern Indiana Public Service Company.

Description: § 205(d) Rate Filing: Filing of a CIAC Agreement to be effective 11/10/2015.

Filed Date: 9/11/15.

Accession Number: 20150911-5088.

Comments Due: 5 p.m. ET 10/2/15.

Docket Numbers: ER15-2644-000.

Applicants: Duke Energy Florida, LLC.

Description: § 205(d) Rate Filing: Florida—Southern TIAA Concurrence Filing to be effective 10/23/2015.

Filed Date: 9/11/15.

Accession Number: 20150911-5105.

Comments Due: 5 p.m. ET 10/2/15.

Docket Numbers: ER15-2645-000.

Applicants: R.E. Ginna Nuclear Power Plant, LLC.

Description: § 205(d) Rate Filing: 2015 normal Sep to be effective 9/11/2015.

Filed Date: 9/11/15.

Accession Number: 20150911-5122.

Comments Due: 5 p.m. ET 10/2/15.

Docket Numbers: ER15-2646-000.

Applicants: Southwest Power Pool, Inc.

Description: § 205(d) Rate Filing: 2158R5 AECC NITSA and NOA Notice of Cancellation to be effective 7/1/2015.

Filed Date: 9/11/15.

Accession Number: 20150911-5134.

Comments Due: 5 p.m. ET 10/2/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 11, 2015.
Kimberly D. Bose,
Secretary.

[FR Doc. 2015-23421 Filed 9-17-15; 8:45 am]

BILLING CODE 6717-01-P